DEPARTMENT OF THE INTERIOR

Bureau of Land Management

[UT-070-99-5101-00; J-608; UTU-77149, UTU-77164, UTU-78301, FERC Doc. No. CP00-68-000]

San Juan County, New Mexico; La Plata, Montezuma, Dolores, and San Miguel Counties, Colorado; and San Juan, Grand, Emery, Carbon, Sanpete, Utah, Juab and Salt Lake Counties, Utah; Final EIS for a Refined Petroleum Products Pipeline, Natural Gas Pipelines and Utility Corridor Analysis and Plan Amendments

AGENCY: Bureau of Land Management, Interior.

ACTION: Notice of availability of Final Environmental Impact Statement.

SUMMARY: Pursuant to Section 102(2)(C) of the National Environmental Policy Act (NEPA) of 1969, a Final Environmental Impact Statement (FEIS) has been prepared by the Bureau of Land Management (BLM), Utah State Office. The FEIS was prepared to analyze the impacts of proposed transportation of refined petroleum products and natural gas through pipelines located on public lands administered by BLM, National Forest System lands and State and private lands in northwest New Mexico, southwest Colorado, and southeast to north-central Utah. In addition, the Final EIS analyzes utility corridors across the Manti-LaSal and Uinta National Forests which may or may not expand the existing designated corridors and /or identify other corridors. This analysis may result in Forest Plan amendments to the Manti-LaSal and Uinta National Forest Land and Resource Management Plans. The Federal Energy Regulatory Commission (FERC) and United States Forest Service, Manti-LaSal, San Juan and Uinta National Forests, are Cooperating Agencies in accordance with Title 40, Code of Federal Regulations, § 1501.6.

DATES: The Final EIS will be distributed and made available to the public on June 1, 2001, for a 30 day review period. Copies of the Final EIS will be mailed to individuals, agencies, or companies who previously requested copies by responding to an inquiry by the Bureau of Land Management. No decision on the proposed action shall be made or recorded until at least 30 days after publication of a Notice of Availability by the Environmental Protection Agency.

ADDRESSES: Public reading copies of the FEIS will be available for review at the following locations:

• Salt Lake City, Utah—209 East 500 South, Salt Lake City, Utah

• West Valley City, Utah—2880 West 3650 South, West Valley City, Utah

• Payson, Utah—439 West Utah Ave, Payson, Utah

• Nephi, Utah—22 East 100 North, Nephi, Utah

• Price, Utah—159 East Main, Price, Utah

• Moab, Utah—Grand Co. Library, 25 South 100 East, Moab, Utah

• Durango, Colorado—Durango Public Library, 1188 Second Avenue, Durango, CO

• Dolores, Colorado—Dolores Public Library, PO Box 847, Dolores, CO

• Farmington, New Mexico—Farmington Public Library, 100 West Broadway, Farmington, NM

A limited number of copies of the document will be available at the following BLM and Forest Service Offices:

• Bureau of Land Management, Utah State Office, 324 South State Street, Salt Lake, Utah

• Uinta National Forest, 88 West 100 North, Provo, Utah,

• Bureau of Land Management

• Filmore Field Office, 35 East 500 North, Fillmore, Utah,

• Bureau of Land Management, Price Field Office, 125 South, 600 West, Price, Utah

• Manti La-Sal National Forest, 599 West Price River Drive, Price, Utah

• Bureau of Land Management, Moab Field Office, 82 East Dogwood Road, Moab, Utah

• Bureau of Land Management, Monticello Field Office, 435 North Main Street, Monticello, Utah

• Bureau of Land Management, Durango Field Office. 15 Burnett Court, Durango, Colorado

• San Juan National Forest, Delores, Colorado

• Bureau of Land Management, Farmington, Field Office, 1235 La Plata Highway, Farmington, New Mexico

FOR FURTHER INFORMATION: Please contact Ms. LaVerne Steah, Project Manager, at the above address or phone: (801) 539-4114 or e-mail: LaVerne_Steah@blm.gov

SUPPLEMENTARY INFORMATION: Three proponents (Williams Pipeline Company, Questar Pipeline Company and Kern River Gas Transmission Company) filed right-of-way applications with the Bureau of Land Management in 1998 and 1999 to construct and operate petroleum products and natural gas pipelines and ancillary facilities on public lands administered by the Bureau of Land Management, National Forest System Lands administered by the United States Forest Service (USFS), and private and state owned lands in the states of New Mexico, Colorado, and Utah. The three projects are independent of each other (each project could be constructed and operated regardless of whether the other two projects are approved). The three projects were analyzed together because they would share common utility corridors across the Manti-LaSal and Uinta National Forests and would cause cumulative impacts.

The BLM and the USFS examined alternative natural gas and petroleum transportation methods and several alternative pipeline route segments to address concerns about potential petroleum products leaks and spill effects on natural resources, water and people, natural gas leaks and failure effects on natural resources and people, and effects on the character of USFS inventoried roadless and unroaded areas. Two major (30 miles or longer) route alternatives, and two short (5 miles or less) route variations were carried forward in the analysis in addition to the proposed action and the no action alternative. Also, as part of the proposed action is a proposal to amend one or more forest plans following the 1982 regulations (36 CFR, part 219).

A Draft Environmental Impact Statement (DEIS) was issued on February 23, 2001, analyzing the impacts and identifying alternatives and mitigation measures. A 52 day public comment period and eight public meetings were held in Utah, Colorado and New Mexico to receive comments on the DEIS. A total of 123 comments (84 oral comments and 39 letters) were received. These comments have been analyzed, and appropriate changes have been made in the FEIS. The public comments have been summarized and printed in the FEIS, along with BLM's responses.

Linda Colville,
Acting Utah State Director.

[FR Doc. 01-13974 Filed 6-1-01; 8:45 am]

BILLING CODE 4310-DQ-U